DEPARTMENT OF HEALTH AND HUMAN SERVICES

Centers for Disease Control and Prevention

Fees for Sanitation Inspections of Cruise Ships

AGENCY: Centers for Disease Control and Prevention (CDC), Department of Health and Human Services (HHS).

ACTION: Notice.

SUMMARY: This notice announces an increase in the fees for vessel sanitation inspections for the remainder of fiscal year 2006 (January 1, 2006, through September 30, 2006).

DATES: Effective January 1, 2006.

FOR FURTHER INFORMATION CONTACT: David L. Forney, Chief, Vessel Sanitation Program, National Center for Environmental Health, Centers for Disease Control and Prevention (CDC), 4770 Buford Highway, NE., Mailstop F-23, Atlanta, Georgia 30341-3724, telephone (770) 488-7333, E-mail: Dforney@cdc.gov.

SUPPLEMENTARY INFORMATION:

Purpose and Background

The fee schedule for sanitation inspections of passenger cruise ships inspected under the Vessel Sanitation Program (VSP) was first published in the Federal Register on November 24, 1987, (52 FR 45019), and CDC began collecting fees on March 1, 1988. Since 1987, CDC has published the fee schedule annually. The fees schedule for FY 2006 was initially announced in the Federal Register on September 7, 2005, with fees effective October 1, 2005. Because of a significant increase in travel expenses and personnel costs, VSP will be increasing inspection fees effective January 1, 2006. This will be the first increase in fees since FY 2002.

The formula used to determine the fees is as follows:

The average cost per inspection is multiplied by a size/cost factor to determine the fee for vessels in each size category. The size/cost factor was established in the proposed fee schedule published in the Federal Register on July 17, 1987, (52 FR 27060) and revised in a schedule published in the Federal Register on November 28, 1989, (54 FR 48942). The revised size/cost factor is presented in Appendix A.

Fee

The fee schedule (Appendix A) will be effective January 1, 2006, through September 30, 2006. If travel expenses continue to increase, the fees may need adjustment before September 30, 2006, because travel constitutes a sizable portion of VSP's costs. If an adjustment is necessary, a notice will be published in the Federal Register 30 days before the effective date.

Applicability

The fees will apply to all passenger cruise vessels for which inspections are conducted as part of CDC's VSP.

Dated: November 7, 2005.
Carlton Duncan,
Deputy Chief Operating Officer, Office of the Director, Centers for Disease Control and Prevention (CDC).

Appendix A

Size/Cost Factor
Vessel size | GRT ¹ | Average cost ($U.S.) per GRT
Extra Small | <3,001 | 0.25
Small | 3,001-15,000 | 0.50
Medium | 15,001-30,000 | 1.00
Large | 30,001-60,000 | 1.50
Extra Large | >60,000 | 2.00
¹ Gross register tonnage in cubic feet, as shown in Lloyd's Register of Shipping.

Fee Schedule January 1, 2006-September 30, 2006
Vessel size | GRT ¹ | Fee
Extra Small | <3,001 | 1,300
Small | 3,001-15,000 | 2,600
Medium | 15,001-30,000 | 5,200
Large | 30,001-60,000 | 7,800
Extra Large | >60,000 | 10,400
¹ Gross register tonnage in cubic feet, as shown in Lloyd's Register of Shipping.

Inspections and reinspections involve the same procedure, require the same amount of time, and are therefore charged at the same rate.

[FR Doc. 05-22967 Filed 11-18-05; 8:45 am]

BILLING CODE 4163-18-P